DEPARTMENT OF EDUCATION

National Advisory Council on Indian Education

AGENCY: U.S. Department of Education, Office of Elementary and Secondary Education.

ACTION: Notice of open meeting.

SUMMARY: On April 12, 2007, the Secretary published in the Federal Register Vol. 72, No. 70, a notice of an open meeting for the National Advisory Council on Indian Education. This notice amends the April 12, 2007, notice by changing the location of the meeting.

This notice sets forth the schedule and proposed agenda of an upcoming meeting of the National Advisory Council on Indian Education (the Council) and is intended to notify the general public of their opportunity to attend. This notice also describes the functions of the Council. Notice of the Council's meetings is required under Section 10(a)(2) of the Federal Advisory Committee Act and by the Council's charter.

Agenda: The Council will discuss their development of the Council's Annual Report to Congress, subcommittee work activities and updates on Executive Order 13336.

Dates: May 2, 2007.

Time: 9 a.m. to 4 p.m.

Location: U.S. Department of Education, 400 Maryland Avenue, SW., Washington, DC 20202.

FOR FURTHER INFORMATION CONTACT: Peirce Hammond, Acting Director, Office of Indian Education, U.S. Department of Education, 400 Maryland Avenue, SW., Washington, DC 20202. Telephone: 202-401-0953. Fax: 202-260-7779.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA. The Council submits to the Congress, not later than June 30 of each year, a report on the activities of the Council that includes recommendations the Council considers appropriate for the improvement of Federal education programs that include Indian children or adults as participants or that may benefit Indian children or adults, and recommendations concerning the funding of any such program.

The general public is welcome to attend the May 2, 2007, meeting to be held from 9 a.m. to 4 p.m. in Washington, DC. Individuals who need accommodations for a disability in order to participate (i.e., interpreting services, assistive listening devices, materials in alternative format) should notify Peirce Hammond at 202-401-0953 by April 23, 2007. We will attempt to meet requests after this date, but cannot guarantee availability of the requested accommodation. The meeting site is accessible to individuals with disabilities.

Opportunities for public comment are available on May 2 from 11-11:30 a.m. on a first come, first served basis. Comments presented at the meeting are limited to 5 minutes in length. Written comments to accompany oral remarks are optional. Five copies of written comments are recommended and should be submitted to the committee chair at the meeting.

Request for Written Comments: We invite the public to submit written comments relevant to the focus of the Advisory Committee. We would like to receive written comments from members of the public no later than April 30, 2007.

SUPPLEMENTARY INFORMATION: Submit all comments to the Advisory Committee using one of the following methods: 1. Internet. We encourage the public to submit comments through the Internet to the following address: Peirce.Hammond@ed.gov 2. Mail. The public may also submit comments via mail to Peirce Hammond, Office of Indian Education, U.S. Department of Education, 400 Maryland Avenue, SW., Room 5C132, Washington, DC 20202. Due to delays in mail delivery caused by heightened security, please allow adequate time for the mail to be received.

Records are kept of all Council proceedings and are available for public inspection at the Office of Indian Education, United States Department of Education, Room 5C141, 400 Maryland Avenue, SW., Washington, DC 20202, Monday through Friday from 9 a.m. to 5 p.m.

Electronic Access to This Document: You may view this document, as well as all other documents of this Department published in the Federal Register, in text or Adobe Portable Document Format (PDF) on the Internet at the following site: http://www.ed.gov/news/federegister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Kerri L. Briggs,
Acting Assistant Secretary for Elementary and Secondary Education.

[FR Doc. E7-7522 Filed 4-19-07; 8:45 am]

BILLING CODE 4000-01-P